DEPARTMENT OF ENERGY

Federal Energy Regulatory Commission

Notice of Effectiveness of Exempt Wholesale; Generator Status

July 13, 2011.

Yuba City Cogeneration Partners, LP | Docket Nos. EG11-74-000
Dempsey Ridge Wind Farm, LLC | EG11-75-000
Howard Wind LLC | EG11-76-000
Highland North LLC | EG11-77-000
KES Kingsburg, LP | EG11-78-000
Gila River Energy Supply LLC | EG11-79-000

Take notice that during the month of June 2011, the status of the above-captioned entities as Exempt Wholesale Generators became effective by operation of the Commission's regulations. 18 CFR 366.7(a).

Dated: July 13, 2011.
Kimberly D. Bose,
Secretary.

[FR Doc. 2011-18917 Filed 7-26-11; 8:45 am]

BILLING CODE 6717-01-P